DEPARTMENT OF DEFENSE

Defense Acquisition Regulations System

[Docket Number DARS-2025-0003; OMB Control Number 0704-0250]

Information Collection Requirement; Defense Federal Acquisition Regulation Supplement (DFARS) Part 242, Contract Administration and Related DFARS Clause

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0250 through August 31, 2025. DoD proposes that OMB approve an extension of the information collection requirement, to expire three years after the approval date.

DATES: DoD will consider all comments received by July 7, 2025.

ADDRESSES: You may submit comments, identified by OMB Control Number 0704-0250, using either of the following methods:

• Federal eRulemaking Portal: https://www.regulations.gov. Follow the instructions for submitting comments.

• Email: osd.dfars@mail.mil. Include OMB Control Number 0704-0250 in the subject line of the message.

Comments received generally will be posted without change to https://www.regulations.gov, including any personal information provided.

FOR FURTHER INFORMATION CONTACT: Ms. Saleemah McMillan, at 202-308-5383.

SUPPLEMENTARY INFORMATION:

Title and OMB Number: Defense Federal Acquisition Regulation Supplement (DFARS) Part 242, Contract Administration and Related DFARS Clause; OMB Control Number 0704-0250.

Affected Public: Businesses or other for-profit and not-for-profit institutions.

Respondent's Obligation: Required to obtain or retain benefits.

Frequency: On occasion.

Number of Respondents: 287.

Responses per Respondent: 1.

Annual Responses: 287.

Average Burden per Response: 475 hours.

Annual Burden Hours: 136,325.

Needs and Uses: The Government requires this information to perform its contract administration functions. The information required by the contract clause at DFARS 252.242-7004, Material Management and Accounting System, is used by contracting officers to determine if contractor material management and accounting systems conform to established DoD standards. The clause at DFARS 252.242-7004 requires a contractor to establish and maintain a material management and accounting system for applicable contracts, disclose significant changes in its system, provide results of system reviews, and respond to any determinations by the Government of material weaknesses.

Jennifer D. Johnson,
Editor/Publisher, Defense Acquisition Regulations System.

[FR Doc. 2025-07747 Filed 5-2-25; 8:45 am]

BILLING CODE 6001-FR-P